COMMISSION ON CIVIL RIGHTS

Notice of Public Meeting of the District of Columbia Advisory Committee; Revision

AGENCY: Commission on Civil Rights.

ACTION: Notice; revision of meeting date.

SUMMARY: The Commission on Civil Rights published a notice in the Federal Register on Friday, August 8, 2025, concerning a business meeting of the District of Columbia Advisory Committee. The meeting is scheduled for Wednesday, September 24, 2025, from 12:00 p.m. to 1:00 p.m. ET (not August 24, 2025). To join this meeting, please register at: https://www.zoomgov.com/webinar/register/WN_OgyoMccbTnm0LPYU2mKNsA.

FOR FURTHER INFORMATION CONTACT: Mallory Trachtenberg, mtrachtenberg@usccr.gov or 1-202-809-9618.

Revision: In the Federal Register on Friday, August 8, 2025, in FR Document Number 2025-15062, on pages 38437-38438, correct the meeting date to: Wednesday, September 24, 2025, from 12:00 p.m. to 1:00 p.m. Eastern Time.

Dated: August 21, 2025.
David Mussatt,
Supervisory Chief, Regional Programs Unit.

[FR Doc. 2025-16247 Filed 8-22-25; 8:45 am]

BILLING CODE 6335-01-P